DEPARTMENT OF LABOR

Employment and Training Administration

[TA-W-60,232]

Silder, Inc., Laotto, IN; Notice of Termination of Investigation

Pursuant to Section 221 of the Trade Act of 1974, as amended, an investigation was initiated on October 11, 2006 in response to a worker petition filed by a company official on behalf of workers at Silder, Inc., LaOtto, Indiana.

The petitioner has requested that the petition be withdrawn. Consequently, the investigation has been terminated.

Signed at Washington, DC this 7th day of November, 2006.
Elliott S. Kushner,
Certifying Officer, Division of Trade Adjustment Assistance.

[FR Doc. E6-19341 Filed 11-15-06; 8:45 am]

BILLING CODE 4510-30-P